CONSUMER PRODUCT SAFETY COMMISSION

Petition Requesting Labeling of Weightlifting Bench Press Benches To Reduce or Prevent Deaths Due to Asphyxia/Anoxia (Petition No. CP 03-3)

AGENCY: Consumer Product Safety Commission.

ACTION: Notice.

SUMMARY: The Commission has received a petition (CP 03-3) requesting that the Commission require labeling of weightlifting bench press benches to reduce or prevent deaths from asphyxia/anoxia due to being trapped beneath a bench press barbell. The Commission solicits written comments concerning the petition.

DATES: The Office of the Secretary must receive comments on the petition by September 16, 2003.

ADDRESSES: Comments on the petition, preferably in five copies, should be mailed to the Office of the Secretary, Consumer Product Safety Commission, Washington, DC 20207, telephone (301) 504-0800, or delivered to the Office of the Secretary, Room 501, 4330 East-West Highway, Bethesda, Maryland 20814. Comments may also be filed by facsimile to (301) 504-0127 or by email to cpsc-os@cpsc.gov. Comments should be captioned “Petition CP 03-3, Petition for Labeling of Bench Press Benches.” A copy of the petition is available for inspection at the Commission's Public Reading Room, Room 419, 4330 East-West Highway, Bethesda, Maryland. The petition is also available on the CPSC Web site at http://www.cpsc.gov.

FOR FURTHER INFORMATION CONTACT: Rockelle Hammond, Office of the Secretary, Consumer Product Safety Commission, Washington, DC 20207; telephone (301) 504-6833, e-mail rhammond@cpsc.gov.

SUPPLEMENTARY INFORMATION: The Commission has received correspondence from V. Patteson Lombardi, Ph.D., requesting that the Commission require a warning label on both uprights of all “manufactured, publicly available” weightlifting bench press benches. The petitioner asserts that the labeling is necessary to reduce or eliminate deaths due to asphyxia/anoxia caused by being trapped under a bench press barbell. The petitioner provides information concerning a number of deaths he states involve such incidents.

The Commission is docketing the correspondence as a petition under provisions of the Consumer Product Safety Act, 15 U.S.C. 2051-2084.

Interested parties may obtain a copy of the petition by writing or calling the Office of the Secretary, Consumer Product Safety Commission, Washington, DC 20207; telephone (301) 504-0800. The petition is available on the CPSC Web site at http://www.cpsc.gov. A copy of the petition is also available for inspection from 8:30 a.m. to 5 p.m., Monday through Friday, in the Commission's Public Reading Room, Room 419, 4330 East-West Highway, Bethesda, Maryland.

Dated: July 10, 2003.
Todd A. Stevenson,
Secretary, Consumer Product Safety Commission.

[FR Doc. 03-18170 Filed 7-17-03; 8:45 am]

BILLING CODE 6355-01-P